DEPARTMENT OF EDUCATION

Notice of Submission for OMB Review

AGENCY: Department of Education.

ACTION: Comment request.

SUMMARY: The Director, Information Collection Clearance Division, Information Management and Privacy Services, Office of Management, invites comments on the submission for OMB review as required by the Paperwork Reduction Act of 1995 (Pub. L. 104-13).

DATES: Interested persons are invited to submit comments on or before May 13, 2011.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov. Please note that written comments received in response to this notice will be considered public records.

SUPPLEMENTARY INFORMATION: Section 3506 of the Paperwork Reduction Act of 1995 (44 U.S.C. chapter 35) requires that the Office of Management and Budget (OMB) provide interested Federal agencies and the public an early opportunity to comment on information collection requests. The OMB is particularly interested in comments which: (1) Evaluate whether the proposed collection of information is necessary for the proper performance of the functions of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including through the use of appropriate automated, electronic, mechanical, or other technological collection techniques or other forms of information technology.

Dated: April 7, 2011.
Darrin A. King,
Director, Information Collection Clearance Division, Information Management and Privacy Services, Office of Management.

Institute of Education Sciences

Type of Review: NEW.

Title of Collection: Study of the Distribution of Teacher Effectiveness.

OMB Control Number: Pending.

Agency Form Number(s): N/A.

Frequency of Responses: Once; On Occasion.

Affected Public: State, Local, or Tribal Government, State Educational Agencies or Local Educational Agencies.

Total Estimated Number of Annual Responses: 213.

Total Estimated Annual Burden Hours: 1,217.

Abstract: Title II, Part A, the Improving Teacher State Formula Grants program is the primary federal funding under the Elementary and Secondary Education Act to support a high quality teacher in every classroom. The American Recovery and Reinvestment Act (ARRA) supports reform in four key areas including increasing teacher effectiveness and promoting the equitable distribution of effective teachers. Therefore, this study describes the distribution of teacher quality within districts over time and any changes in that distribution associated with district strategies to promote an equitable distribution of high quality teachers.

This study will provide information over time about the distribution of teacher quality and will document district efforts to promote teacher equity within a select number of districts. The research questions are:

• What is the distribution of teacher quality across schools within districts?

• What strategies and policies are districts promoting to address inequitable distribution of teacher quality? How these strategies/policies are enacted (e.g. strategy determination, goals and objectives, theory of action, features, administration, necessary resources, and challenges to administration, intended duration)?

• What is the relationship between the district policies/strategies and the distribution of teacher quality?

The study will be conducted in up to 30 geographically-dispersed school districts. The study will document the distribution of teacher quality, within participating districts, using teacher value-added analyses. The study will also describe changes in the distribution of teacher quality across the outcomes years 2010-2011 through 2012-2013. Data collection will include student achievement obtained from administrative records, annual semi-structured district leadership interviews about district strategies and policies to address inequitable distribution of teacher quality, and district administrative records/personnel data.

Copies of the information collection submission for OMB review may be accessed from the RegInfo.gov Web site at http://www.reginfo.gov/public/do/PRAMain or from the Department's Web site at http://edicsweb.ed.gov, by selecting the “Browse Pending Collections” link and by clicking on link number 4484. When you access the information collection, click on “Download Attachments ” to view. Written requests for information should be addressed to U.S. Department of Education, 400 Maryland Avenue, SW., LBJ, Washington, DC 20202-4537. Requests may also be electronically mailed to the Internet address ICDocketMgr@ed.gov or faxed to 202-401-0920. Please specify the complete title of the information collection and OMB Control Number when making your request.

Individuals who use a telecommunications device for the deaf (TDD) may call the Federal Information Relay Service (FIRS) at 1-800-877-8339.

[FR Doc. 2011-8878 Filed 4-12-11; 8:45 am]

BILLING CODE 4000-01-P